Title 3—

The President

Proclamation 8436 of October 9, 2009

National School Lunch Week, 2009

By the President of the United States of America

A Proclamation

Every young American deserves access to a wholesome, nutritious lunch. These meals prevent hunger and give our children the energy and nourishment they need to grow into healthy, productive adults. Since 1946, the National School Lunch Program has helped to protect the health and well-being of our children by providing them with balanced, low-cost or free lunches throughout the school year. This week, we renew our commitment to serving healthy meals that will prepare our next generation of leaders to learn and thrive.

The National School Lunch Program serves more than 31 million students every school day at over 100,000 schools across our Nation. These meals can be an important source of fruits, vegetables, and low-fat dairy products, containing essential nutrients to meet the demands of a growing child. For many schoolchildren, it will be their most nutritious meal—sometimes their only meal—of the day. This program can also teach children about the importance of good eating habits, which is vital to our Nation’s fight against childhood obesity. In the coming months, my Administration will continue our partnership with Federal, State, and local leaders to strengthen the National School Lunch Program. We must work together to remove barriers that prevent some eligible children from receiving meals, and update nutrition standards to reflect the latest Dietary Guidelines for Americans.

Academic success requires hard work and concentration. Students distracted by hunger cannot match the focus of their peers. Poorly nourished students are also more likely to become ill, and miss class more frequently. During National School Lunch Week, we honor all those who make the National School Lunch Program possible, including government and school officials, food service professionals, farmers, and parents. By ensuring that every child, regardless of background or family income, is properly fed at school, we secure a brighter future for each of them and for America.

The Congress, by joint resolution of October 9, 1962 (Public Law 87-780), as amended, has designated the week beginning on the second Sunday in October each year as “National School Lunch Week,” and has requested the President to issue a proclamation in observance of this week.

NOW, THEREFORE, I, BARACK OBAMA, President of the United States of America, do hereby proclaim the week of October 11 through October 17, 2009, as National School Lunch Week. I call upon all Americans to join the dedicated individuals who administer the National School Lunch Program in appropriate activities that support the health and well-being of our Nation’s children.

IN WITNESS WHEREOF, I have hereunto set my hand this ninth day of October, in the year of our Lord two thousand nine, and of the Independence of the United States of America the two hundred and thirty-fourth.

[FR Doc. E9-25080

Filed 10-15-09; 8:45 am]

Billing code 3195-W9-P